DEPARTMENT OF COMMERCE

International Trade Administration

[A-570-088]

Certain Steel Racks and Parts Thereof From the People's Republic of China: Final Results of the Expedited First Sunset Review of the Antidumping Duty Order

AGENCY: Enforcement and Compliance, International Trade Administration, Department of Commerce.

SUMMARY: As a result of this expedited first sunset review, the U.S. Department of Commerce (Commerce) finds that revocation of the antidumping duty (AD) order on steel racks from the People's Republic of China (China) would likely lead to continuation or recurrence of dumping at the level indicated in the “Final Results of Expedited Sunset Review” section of this notice.

DATES: Applicable December 6, 2024.

FOR FURTHER INFORMATION CONTACT: Howard Smith, AD/CVD Operations, Office IV, Enforcement and Compliance, International Trade Administration, U.S. Department of Commerce, 1401 Constitution Avenue NW, Washington, DC 20230; telephone: (202) 482-5193.

SUPPLEMENTARY INFORMATION:

Background

After Commerce initiated this sunset review ¹ of the Order,² pursuant to section 751(c) of the Tariff Act of 1930, as amended (the Act), domestic interested parties ³ timely submitted a notices of intent to participate in the sunset review,⁴ and an adequate substantive response regarding the sunset review.⁵ The domestic interested parties claimed interested party status under section 771(9)(E) of the Act as a trade association of domestic producers of steel racks.⁶ Commerce did not receive a substantive response from any respondent interested party, nor was a hearing requested. Consequently, on September 24, 2024, Commerce notified the U.S. International Trade Commission that it did not receive an adequate substantive response from any respondent interested parties.⁷ As a result, pursuant to section 751(c)(3)(B) of the Act and 19 CFR 351.218(e)(1)(ii)(C)(2), Commerce conducted an expedited (120-day) sunset review of the Order. The deadline for the final results of this expedited sunset review is now November 29, 2024.

¹ See Initiation of Five-Year (Sunset) Reviews, 89 FR 62717 (August 1, 2024).

² See Certain Steel Racks and Parts Thereof from the People's Republic of China: Amended Final Affirmative Antidumping Duty Determination and Antidumping Duty Order, 84 FR 48584 (September 16, 2019) (Order).

³ The domestic interested parties are part of a coalition, Coalition for Fair Rack Imports (“CFRI”). The members of CFRI are Heartland Steel Products, Speed Rack Products Group, Ltd, Husky Rack and Wire, Steel King Industries Inc., Nucor Warehouse Systems, Tri-Boro Shelving & Partition Corp., Ridg-U-Rack, and UNARCO Material Handling, Inc.

⁴ See Coalition for Fair Rack Imports' Letter, “Notice of Intent to Participate in the First Five-Year Review,” dated August 16, 2024, (Domestic Interested Parties' Intent to Participate).

⁵ See Domestic Interested Parties' Letter, “Substantive Response to Notice of Initiation,” dated September 3, 2024 (Domestic Interested Parties' Substantive Response).

⁶ See Domestic Interested Parties' Intent to Participate.

⁷ See Commerce's Letter, “Sunset Reviews Initiated on August 1, 2024,” dated September 24, 2024; see also 19 CFR 351.218(3)(1)(ii)(C)(1).

Scope of the Order

The merchandise subject to the Order is steel racks from China. For a complete description of the scope of the Order, see the Issues and Decisions Memorandum.⁸

⁸ See Memorandum, “Issues and Decision Memorandum for the Final Results of the Expedited Sunset Review of the Antidumping Duty Order on Steel Racks from the People's Republic of China,” dated concurrently with, and hereby adopted by, this notice (Issues and Decision Memorandum).

Analysis of Comments Received

A complete discussion of all issues raised in this sunset review, including the likelihood of continuation or recurrence of dumping and the magnitude of the dumping margin likely to prevail if the Order were to be revoked, is provided in the accompanying Issues and Decision Memorandum.⁹ A list of the sections in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁹ Id.

Final Results of Expedited Sunset Review

Pursuant to sections 751(c)(1) and 752(c)(1) and (3) of the Act, Commerce determines that revocation of the Order would likely lead to continuation or recurrence of dumping, and that the magnitude of the dumping margins likely to prevail are weighted-average dumping margins up to 144.50 percent.

Administrative Protective Order

This notice serves as the only reminder to parties subject to administrative protective orders (APO) of their responsibility concerning the return or destruction of proprietary information disclosed under APO in accordance with 19 CFR 351.305(a). Timely notification of the return or destruction of APO materials or conversion to judicial protective order, is hereby requested. Failure to comply with the regulations and terms of an APO is a violation which is subject to sanction.

Notification to Interested Parties

We are issuing, and publishing notice of, the results of this sunset review in accordance with sections 751(c), 752(c), and 777(i)(1) of the Act and 19 CFR 351.218(e)(1)(ii)(C)(2) and 19 CFR 351.221(c)(5)(ii).

Dated: November 29, 2024.
Steven Presing,
Acting Deputy Assistant Secretary for Policy and Negotiations.

Appendix—List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2024-28505 Filed 12-5-24; 8:45 am]

BILLING CODE 3510-DS-P